DEPARTMENT OF THE INTERIOR

Bureau of Land Management

[LLWY-957000-17-L13100000-PP0000]

Filing of Plats of Survey, Nebraska

AGENCY: Bureau of Land Management, Interior.

ACTION: Notice.

SUMMARY: After withdrawal of protest, the Bureau of Land Management (BLM) is scheduled to lift the stay of filing of plat of survey dated August 24, 2009, and file this plat of survey thirty (30) calendar days from the date of this publication in the BLM Wyoming State Office, Cheyenne, Wyoming. This survey was executed at the request of the National Park Service and is necessary for the management of these lands. The lands surveyed are:

The plat representing the entire record of the survey of Tract No. 37, Township 32 North, Range 3 East, Sixth Principal Meridian, Nebraska, was accepted March 6, 2009.

FOR FURTHER INFORMATION CONTACT: WY957, Bureau of Land Management, 5353 Yellowstone Road, P.O. Box 1828, Cheyenne, Wyoming 82003.

SUPPLEMENTARY INFORMATION: A person or party who wishes to protest against this survey must file a written notice within thirty (30) calendar days from the date of this publication with the Wyoming State Director, Bureau of Land Management, at the above address, stating that they wish to protest. A statement of reasons for the protest may be filed with the notice of protest and must be filed with the Wyoming State Director within thirty (30) calendar days after the protest is filed. If a protest against the survey is received prior to the date of official filing, the filing will be stayed pending consideration of the protest. A plat will not be officially filed until the day after all protests have been dismissed or otherwise resolved. Before including your address, phone number, email address, or other personal identifying information in your protest, you should be aware that your entire protest—including your personal identifying information—may be made publicly available at any time. While you can ask us to withhold your personal identifying information from public review, we cannot guarantee that we will be able to do so.

Copies of the preceding described plat are available to the public at a cost of $4.20 per plat.

Dated: October 7, 2016.
John P. Lee,
Chief Cadastral Surveyor, Division of Support Services.

[FR Doc. 2016-24852 Filed 10-13-16; 8:45 am]

BILLING CODE 4310-22-P